DEPARTMENT OF HEALTH AND HUMAN SERVICES

Administration for Children and Families

Submission for OMB Review; Comment Request

Title: 45 CFR part 95, section F.

OMB No.: 0992-0005.

Description: The advance planning document (APD) process, established in the rules at 45 CFR part 95, subpart F, is the procedure by which States request and obtain approval for Federal financial participation in their cost of acquiring automatic data processing (ADP) equipment and services. The State Agency's submitted APD provides the Department of Health and Human Services (HHS) with the following information necessary to determine the State's need to acquire the requested ADP equipment and/or services:

1. A statement of need;

2. A requirements analysis and feasibility study;

3. A cost benefit analysis;

4. A proposed activity schedule; and,

5. A proposed budget.

DHHS' determination of a State agency's need to acquire requested ADP equipment or services is authorized at sections 402(a)(5), 452(a)(1), 1902(a)(4) and 1102 of the Social Security Act.

Respondents

Annual Burden Estimates
Instrument | Number of respondents | Number of responses per respondent | Average burden hours per response | Total burden hours
Advance Planning Document | 50 | 1.84 | 60 | 5,520
RFP and Contract | 50 | 1.54 | 1.5 | 115.5
Emergency Funding Request | 27 | 1 | 1 | 27
Service Agreements | 14 | 1 | 1 | 14
Biennial Reports | 50 | 1 | 1.5 | 75
Estimated Total Annual Burden Hours |  |  |  | 5,751.5

Additional Information

Copies of the proposed collection may be obtained by writing to the Administration for Children and Families, Office of Administration, Office of Information Services, 370 L'Enfant Promenade, SW., Washington, DC 20447, Attn: ACF Reports Clearance Officer. E-mail address: rsargis@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF, E-mail address: lauren_wittenberg@omb.eop.gov

Dated: June 16, 2003.
Robert Sargis,
Reports Clearance Officer.

[FR Doc. 03-15503 Filed 6-18-03; 8:45 am]

BILLING CODE 4184-01-M